DEPARTMENT OF THE INTERIOR

Bureau of Land Management

[UT-030-1020-00]

Notice of Intent To Amend Plans; Corrections

AGENCY: Bureau of Land Management, Interior.

ACTION: Corrections to Notice of intent to Prepare Plan Amendments

SUMMARY: The Bureau of Land Management (BLM), Grand Staircase-Escalante National Monument (GSENM) published in the November 30, 2001 issue of the Federal Register (FR) a Notice of Intent to Amend the GSENM Management Plan, the Paria Management Framework Plan, and the Escalante Management Framework Plan. As published, the notice contained the following errors: (1) The notice was incorrect and unclear about which plans are associated with the Willow Gulch and Clark Bench grazing allotments; and (2) The notice inadvertently omitted the inclusion of the Willow Gulch grazing allotment in planning criteria number 1.

FOR FURTHER INFORMATION, CONTACT: Monument Manager, Grand Staircase-Escalante National Monument, 190 E Center, Kanab, Utah 84741 (Phone: 435-644-4300).

SUPPLEMENTARY INFORMATION: Correction 1: In the Federal Register issue of November 30, 2001 (Volume 66, Number 231), FR Doc. 01-29729, on Page 59812, in the second column, under the “Summary” caption, correct the first sentence to read:

Summary: Pursuant to the Bureau of Land Management (BLM) Planning Regulations (43 CFR 1600) this notice advises the public that the BLM, Grand Staircase-Escalante National Monument (GSENM) is considering amendments to the following plans:

(1) The Grand Staircase-Escalante National Monument (GSENM) Management Plan, and the Paria Management Framework Plan regarding the Clark Bench Allotment; and

(2) The Grand Staircase-Escalante National Monument (GSENM) Management Plan and the Escalante Management Framework Plan regarding the Willow Gulch Allotment.

Correction 2: In the Federal Register issue of November 30, 2001 (Volume 66, Number 231), FR Doc. 01-29729, on Page 59812, the third column, under the “Supplementary Information” caption, correct the second paragraph, Item 1 to read:

1. These plan amendments/EAs are initiated in response to the voluntary relinquishment of the sole grazing preference/permit for the Clark Bench grazing allotment and a portion of the grazing preference/permit for the Willow Gulch grazing allotment. These plan amendments will be addressed through two separate EAs. The analyses and decisions will apply only to these allotments.

Dated: December 12, 2001.
Sherry Barnett,
Deputy Assistant Director.

[FR Doc. 01-31764 Filed 12-26-01; 8:45 am]

BILLING CODE 4310-$$-P